ENVIRONMENTAL PROTECTION AGENCY

[ER-FRL-9009-1]

Environmental Impacts Statements; Notice of Availability

Responsible Agency: Office of Federal Activities, General Information (202) 564-7146 or http://www.epa.gov/compliance/nepa/.

Weekly receipt of Environmental Impact Statements

Filed 04/29/2013 through 05/03/2013.

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Due to EPA's agency-wide furlough day on Friday, May 24th and the Federal holiday on Monday, May 27th, all EISs must be filed with EPA by Thursday, May 23rd by 5:00 p.m. eastern time for publication under a Notice of Availability in the Federal Register for Friday, May 31st.

EIS No. 20130123, Draft Supplement, NRC, PA, GENERIC—License Renewal of Nuclear Plants, Supplement 49, Regarding Limerick Generating Station Units 1 and 2, Comment Period Ends: 06/27/2013, Contact: Leslie Perkins 301-415-2375.

EIS No. 20130124, Draft EIS, DOE, LA, Lake Charles Carbon Capture and Sequestration Project, Comment Period Ends: 06/24/2013, Contact: Pierina Fayish 412-386-5428.

Amended Notices

EIS No. 20130062, Draft EIS, USFS, NM, Roca Honda Mine Project, Exploration and Mine Development, Cibola National Forest, Comment Period Ends: 06/13/2013, Contact: Diane Tafoya 505-346-3809.

Revision to FR Notice Published 03/15/2013; Extending Comment Period from 5/14/2013 to 06/13/2013.

Dated: May 7, 2013.
Cliff Rader,
Director, NEPA Compliance Division, Office of Federal Activities.

[FR Doc. 2013-11189 Filed 5-9-13; 8:45 am]

BILLING CODE 6560-50-P